DEPARTMENT OF AGRICULTURE

Forest Service

Dixie, Fishlake, and Manti-La Sal National Forests; Utah; Initiation of Forest Plan Assessment Process

AGENCY: Forest Service, USDA.

ACTION: Notice of initiating the forest plan assessment process to determine whether a forest plan amendment is needed regarding livestock grazing for the Dixie, Fishlake, and Manti-La Sal National Forests.

SUMMARY: The U.S. Department of Agriculture (USDA), Forest Service, is initiating a forest plan amendment process pursuant to 36 CFR 219 (“Planning Rule”) for the Forest Land Management Plans (forest plans) for the Dixie, Fishlake, and Manti-La Sal National Forests, beginning with an assessment of current forest plan direction for managing livestock grazing as it relates to specific ecological conditions in riparian, aquatic, and sagebrush-grassland ecosystems. Interested parties are invited to contribute information to be used in the preliminary identification of the need for changing the forest plans. The appropriate National Environmental Policy Act (NEPA) analysis processes will be initiated if the result of the assessment indicates that an amendment may be needed.

DATES: Comments or submissions for the assessment for the preliminary identification of a need for changing the forest plans of the Dixie, Fishlake, and Manti-La Sal National Forests will be most helpful if received by 45 days of publication of this notice. Based on the assessment, the three national forests will together or separately initiate the appropriate NEPA process, including proposing needs for change for forest plan amendments. The projected completion date for the assessment is early fall 2014.

ADDRESSES: To contribute information or comments to the process, electronic submissions should be addressed to: grazingassessment@fs.fed.us. Written comments should be addressed to Attn: John Zapell, Fishlake National Forest, 115 E 900 N., Richfield, UT 84701, or via fax: 435-896-9347.

All comments, including names and addresses when provided, are placed in the project record, which will be maintained at the Fishlake National Forest Supervisor's Office. All comments will be available for public inspection.

FOR FURTHER INFORMATION CONTACT: Shirley Frank, Interdisciplinary Team Leader, TEAMS, Forest Service at 559-920-6358 or safrank@fs.fed.us; or contact John Zapell, Public Affairs Officer, Fishlake National Forest at 435-896-1070 or jzapell@fs.fed.us.

Individuals who use telecommunication devices for the deaf (TDD) may call the Federal Information Relay Service (FIRS) at 1-800-877-8339 between 8 a.m. and 8 p.m., Eastern Time, Monday through Friday.

SUPPLEMENTARY INFORMATION: Pursuant to the National Forest Management Act of 1976, the Dixie, Fishlake, and Manti-La Sal National Forests are managed under the direction included in their respective land and resource management plans (“forest plans”). Under the Planning Rule, plan amendments should be used to keep forest plans current and help units adapt to new information or changing conditions. Plan amendments are to be based on a preliminary identification of the needs to change the plan. The preliminary identification of the need to change the plan may be based on a new assessment; a monitoring report; or other documentation of new information, changed conditions, or changed circumstances.

Because of numerous issues and conflicting views surrounding livestock grazing the forests conducted an initial review to identify what if any changes in resource conditions have occurred since the forest plans were established in 1986. The team was asked to identify resource concerns, determining whether they might be related to livestock management and what, if anything, in the forest plans' direction could be related to those resource concerns. The initial review indicates that ecological conditions in riparian, aquatic, and sagebrush-grassland ecosystems are not progressing toward sustaining the multiple use of these ecosystem's renewable resources in perpetuity while maintaining the long-term health and productivity of the land. Specific resource concerns were identified for riparian vegetation, lakes, ponds, springs, and wetlands, physical stream channel habitat and sagebrush grasslands. The review was based on monitoring information, observed changed conditions, and new scientific information.

Concerns were also identified that existing forest plans do not have clear measurable desired conditions and descriptions for riparian, aquatic, and sagebrush grassland areas, especially in relation to use for domestic livestock grazing. Where desired conditions are described, they may not be effective at sustaining the natural resources, may conflict with other direction, or may not be supported by current scientific information. For further information, the initial review document is available by request and is posted on the Fishlake National Forest Web site at http://go.usa.gov/NnHQ.

Because the initial review also indicated that the management direction in the forest plans may be a contributing factor, we, the Forest Supervisor of the Dixie National Forest and the Forest Supervisor of the Fishlake and Manti-LaSal National Forests, have determined that an assessment is needed for the preliminary identification of the need for changing the forest plans to address the above concerns. Because livestock grazing management was identified as a contributing factor to the ecological conditions, this assessment will also focus on the relationship of livestock grazing management to riparian vegetation, groundwater-dependent ecosystems, physical stream channel habitat, and sagebrush grassland ecosystems. Due to the commonality of concerns across the three forests, this assessment is being undertaken for all three forest plans.

The purpose of the assessment is to evaluate rapidly the existing information on the ecological conditions of riparian vegetation, groundwater-dependent ecosystems, physical stream channel habitat, and sagebrush grassland areas; the use of these areas for domestic livestock grazing; and the relationship of the ecological conditions of these areas to forest plan direction. The assessments will facilitate building common understanding of that information to identify preliminary needs for changing the forest plans.

With this notice, the agency invites other governments, nongovernmental parties, and the public to contribute to the assessment development. The intent of public engagement during development of the assessment is to identify as much relevant information as possible to inform the preliminary identification of the need to change the forest plans and, if needed, the subsequent plan amendment development process. Contributors are encouraged to share material about existing conditions and trends of the ecological conditions of concern, as well as about social, economic, and ecological values relevant to the specified ecological conditions and the use of these ecosystems for livestock grazing management.

For efficiency and effectiveness, the assessment is being conducted for all three national forests because of similarities in their resources. We encourage contribution of information relating to the three-forest scale, individual forest-scale, as well as beyond the forest if related to the management of livestock grazing on the forest. Each plan is unique to the needs of the people and communities being served. The result of the assessment may be the preliminary identification of needs for change applicable to one, two, or all three forest plans.

To contribute to the process, see the ADDRESS section above. Or contact John Zapell, Public Affairs Officer, Fishlake National Forest at 435-896-1070 or jzapell@fs.fed.us. Or contact Shirley Frank, Interdisciplinary Team Leader and Environmental Coordinator, TEAMS, Forest Service at 559-920-6358 or safrank@fs.fed.us.

Dated: August 7, 2014.
Allen Rowley,
Fishlake Forest Supervisor and Acting Manti-La Sal Supervisor.
Dated: August 7, 2014.
Angelita S. Bulletts,
Dixie Forest Supervisor.

[FR Doc. 2014-19453 Filed 8-15-14; 8:45 am]

BILLING CODE 3410-11-P